DEPARTMENT OF LABOR

Public Availability of Department of Labor FY 2014 Service Contract Inventory

AGENCY: Office of the Assistant Secretary for Administration and Management, Labor.

ACTION: Notice of public availability of FY 2014 Service Contract Inventories.

SUMMARY: In accordance with Section 743 of Division C of the Consolidated Appropriations Act of 2010 (Pub. L. 111-117), the Department of Labor (DOL) is publishing this notice to advise the public of the availability of its FY 2014 Service Contract Inventory. This inventory provides information on service contract actions over $25,000 made in FY 2014. The information is organized by function to show how contracted resources are distributed throughout the agency. The inventory has been developed in accordance with guidance issued on November 5, 2010, by the Office of Management and Budget's Office of Federal Procurement Policy (OFPP). OFPP's guidance is available at http://www.whitehouse.gov/sites/default/files/omb/procurement/memo/service-contract-inventories-guidance-11052010.pdf. The Department of Labor has posted its inventory and a summary of the inventory on the agency's Web site at the following link: http://www.dol.gov/dol/aboutdol/main.htm#inventory.

FOR FURTHER INFORMATION CONTACT: Questions regarding the service contract inventory should be directed to Ngozi Ofili in the DOL/Office of Acquisition Management Services at (202) 693-7247 or ofili.ngozi.e@dol.gov.

Dated: April 17, 2015.
Edward C. Hugler,
Deputy Assistant Secretary for Administration and Management.

[FR Doc. 2015-10054 Filed 4-29-15; 8:45 am]

BILLING CODE 4510-23-P